U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a virtual public hearing in Washington, DC on May 7, 2020 on “China's Evolving Healthcare Ecosystem: Challenges and Opportunities.”

DATES: The hearing is scheduled for Thursday, May 7, 2020, at 9:30 a.m.

ADDRESSES: This hearing will be held online, with panelists and Commissioners participating via videoconference. Members of the public will be able to view a live webcast via the Commission's website at www.uscc.gov. Please check the Commission's website for possible changes to the hearing schedule. Reservations are not required to attend the hearing.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Background: This hearing will examine new developments in China's healthcare system, the challenges these pose to continued U.S. leadership in the medical sciences, as well as the opportunities they potentially create for U.S. researchers and companies. The first panel reviews China's domestic healthcare infrastructure, Beijing's ambitions for digital healthcare technologies, and China's public health emergency preparedness both before and after the emergence of the COVID-19 pandemic. The second panel will investigate linkages between the United States and Chinese healthcare ecosystems, with a particular emphasis on market access and data sharing, technological competition, and the benefits and risks of research cooperation.

The hearing will be co-chaired by Chairman Robin Cleveland and Commissioner Thea Lee. Any interested party may file a written statement by May 7, 2020 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 23, 2020.
Daniel W. Peck,
Executive Director, U.S.-China Economic and Security Review Commission.

[FR Doc. 2020-09002 Filed 4-27-20; 8:45 am]

BILLING CODE 1137-00-P